DEPARTMENT OF THE INTERIOR

Bureau of Indian Affairs

[245A2100DD/AAKC001030/A0A501010.999900]

Land Acquisitions; Timbisha Shoshone Tribe, County Land Parcel, Kern County, California

AGENCY: Bureau of Indian Affairs, Interior.

ACTION: Notice.

SUMMARY: The Assistant Secretary—Indian Affairs made a final agency determination to acquire in trust 20.03 acres, more or less, of land known as the County Land Parcel in Kern County, California, for the Timbisha Shoshone Tribe for gaming and other purposes.

DATES: This final determination was made on July 1, 2024.

FOR FURTHER INFORMATION CONTACT: Ms. Paula L. Hart, Director, Office of Indian Gaming, Office of the Assistant Secretary—Indian Affairs, Washington, DC 20240, IndianGaming@bia.gov; (202) 219-4066.

SUPPLEMENTARY INFORMATION: On the date listed in the DATES section of this notice, the Assistant Secretary—Indian Affairs made a final agency determination to acquire the County Land Parcel (Site), consisting of 20.03 acres, more or less, in trust for the Timbisha Shoshone Tribe under the authority of the Timbisha Shoshone Homeland Act, Public Law 106-423, 114 Stat. 1875 (2000).

The Assistant Secretary—Indian Affairs, on behalf of the Secretary of the Interior, will immediately acquire the title to the Site in the name of the United States of America in trust for the Timbisha Shoshone Tribe upon fulfillment of all Departmental requirements. The legal description for the County Land Parcel is as follows:

Legal Land Description of Property

• Parcel 1 of Parcel Map 4949, in the unincorporated area of the County of Kern State of California, as per map recorded April 19, 1979, in Book 22, page 142 of parcel maps, in the Office of the County recorder of said County.

Authority: This notice is published in the exercise of authority delegated by the Secretary of the Interior to the Assistant Secretary—Indian Affairs by 209 Departmental Manual 8.1 and is published to comply with the requirements of 25 CFR 151.13 (c)(2)(ii) that notice of the decision to acquire land in trust be promptly provided in the Federal Register.

Bryan Newland,
Assistant Secretary—Indian Affairs.

[FR Doc. 2024-14784 Filed 7-5-24; 8:45 am]

BILLING CODE 4337-15-P